DEPARTMENT OF EDUCATION

Application for New Awards; Indian Education Formula Grants to Local Educational Agencies

AGENCY: Office of Elementary and Secondary Education, Department of Education.

ACTION: Notice.

Overview Information

Indian Education Formula Grants to Local Educational Agencies Notice inviting applications for fiscal year (FY) 2014.

Catalog of Federal Domestic Assistance (CFDA) Number: 84.060A.

Dates:

Part I of the Formula Grant Electronic Application System for Indian Education (EASIE) Applications Available: January 27, 2014.

Deadline for Transmittal of Part I Applications: February 28, 2014.

Part II of the Formula Grant EASIE Applications Available: March 31, 2014

Deadline for Transmittal of Part II Applications: May 30, 2014.

Note: Applicants must meet the deadlines for both EASIE Part I and Part II to receive a grant. Any application not meeting the Part I and Part II deadlines will not be considered for funding. Failure to submit the required supplemental documentation, described in section IV. 2 Content and Form of Application Submission, by the EASIE Parts I and II deadlines will result in an incomplete application that will not be considered for funding. The Office of Indian Education recommends uploading the documentation 20 days prior to each closing date to ensure that any potential submission issues are resolved prior to the deadlines.

I. Funding Opportunity Description

Purpose of Program: The Indian Education Formula Grants to Local Educational Agencies program provides grants to support local educational agencies (LEAs) and other eligible entities described in this notice in reforming and improving elementary and secondary school programs that serve Indian students. The Department funds comprehensive programs that are designed to help Indian students meet the same State academic content and student academic achievement standards used for all students while addressing the language and cultural needs of Indian students. Such programs include supporting the professional development of teachers of Indian students.

In addition, under section 7116 of the Elementary and Secondary Education Act of 1965, as amended (ESEA), the Secretary will, upon receipt of an acceptable plan for the integration of education and related services, and in cooperation with other relevant Federal agencies, authorize the entity receiving the funds under this program to consolidate all Federal formula funds that are to be used exclusively for Indian students. Instructions for submitting an integration of education and related services plan are included in the EASIE, which is described elsewhere in this notice under Application Process and Submission Information.

Note: Under the Indian Education Formula Grants to Local Educational Agencies program, applicants are required to develop the project for which an application is made: (a) In open consultation with parents and teachers of Indian students and, if appropriate, Indian students from secondary schools, including through public hearings held to provide a full opportunity to understand the program and to offer recommendations regarding the program (section 7114(c)(3)(C) of the ESEA); (b) with the participation of a parent committee selected in accordance with section 7114(c)(4) of the ESEA; and, (c) with the written approval of that parent committee (section 7114(c)(4) of the ESEA).

Program Authority: 20 U.S.C. 7421 et seq.

Applicable Regulations: (a) The Education Department General Administrative Regulations (EDGAR) in 34 CFR parts 75, 77, 79, 80, 81, 82, 84, 97, 98, and 99. (b) The Education Department suspension and debarment regulations in 2 CFR part 3485.

Note: The regulations in 34 CFR part 79 apply to all applicants except federally recognized Indian tribes.

II. Award Information

Type of Award: Indian Education Formula Grants to Local Educational Agencies.

Estimated Available Funds: The Administration has requested $105,921,000 for this program for FY 2014. The actual level of funding, if any, depends on final congressional action. However, we are inviting applications to allow enough time to complete the grant process if Congress appropriates funds for this program.

Estimated Range of Awards: $4,000 to $2,823,022.

Estimated Average Size of Awards: $78,057.

Estimated Number of Awards: 1,300.

Note: The Department is not bound by any estimates in this notice.

Project Period: 12 months.

III. Eligibility Information

1. Eligible Applicants: Certain LEAs, including charter schools authorized as LEAs under State law, as prescribed by section 7112(b) of the ESEA, certain schools funded by the Bureau of Indian Education of the U.S. Department of the Interior, as prescribed by section 7113(d) of the ESEA, and Indian tribes under certain conditions, as prescribed by section 7112(c) of the ESEA.

2. a. Cost Sharing or Matching: This program does not require cost sharing or matching.

b. Supplement-Not-Supplant: This program involves supplement-not-supplant funding requirements. Section 7114(c)(1) of ESEA states that the LEA will use these grant funds only to supplement the funds that, in the absence of these Federal funds, such agency would make available for the education of Indian children, and not to supplant such funds.

IV. Application Process and Submission Information

1. How to Request an Application: Applications for grants under this program must be submitted electronically using the Formula Grant EASIE, at https://eden.ed.gov/Survey/. For information (including dates and times) about how to submit your application electronically, or in paper format by mail or hand delivery if you qualify for an exception to the electronic submission requirements, please refer to section IV. 7. Other Submission Requirements of this notice.

Individuals with disabilities can obtain a copy of the application package in an accessible format (e.g., braille, large print, audiotape, or compact disc) by contacting the person or team listed under FOR FURTHER INFORMATION CONTACT in section VI of this notice.

2. Content and Form of Application Submission: Requirements concerning the content of an application, together with the forms you must submit, are in the online application package for this program.

a. Changes for FY 2014: For all applicants, we have changed the previous practice of requiring applicants to choose project objectives each year. Applicants can now establish project objectives and corresponding activities/services for up to four years. This will enhance grantees' ability to collect data on project success, provide project continuity in case of staff turnover, and enhance long-term planning for grantees that remain eligible for the formula grants each year. Starting in FY 2015, grantees who established multi-year project objectives will not have to re-enter information in EASIE Part II if they have no changes to their project objectives, activities, or coordination of services for American Indian/Alaska Native students.

To implement this option, applicants will first indicate in EASIE Part I the time-span for its project objectives, either one-year or multi-year. Then in EASIE Part II, applicants will select the objectives, corresponding activities, and data sources for measuring progress towards the objectives. Following each project year, this data will be reported to the Department on the grantee's annual performance report.

A second change affecting all applicants in EASIE Part II improves the description of the project's coordination of services for Indian students. First, applicants will identify, from a list of possible programs (e.g. ESEA Title I), those programs in the school district that are currently coordinated with the Title VII project, or that the school district plans to coordinate during the project year. Next, applicants will describe how the coordination of services will meet the needs of American Indian/Alaska Native students, including their language and cultural needs, with an explanation of specific programs and activities.

An additional change affects only elementary and secondary schools funded or operated by the Bureau of Indian Education (BIE). These schools continue to have the option of documenting their Indian student count either by maintaining student “ED 506” forms or by using the Indian School Equalization Program (ISEP) average daily membership (ADM) count. However, while in the past BIE schools that selected ISEP count were able to omit the Indian student count in EASIE Part I, these schools will now be required to enter either their ISEP or ED 506 form count in the student count section of Part I.

b. Supplementary Documentation: The EASIE application includes the electronic submission of required supplementary documentation.

(1) In EASIE Part I, applicants that are tribes must upload their verification of eligibility no later than the Part I close date. The details of the verification process, which is necessary to meet the statutory eligibility requirements for tribes, are in the application package. Tribes may use the sample agreement, available in the EASIE system as a downloadable document.

(2) In EASIE Part II, an applicant that is the lead LEA for a consortium of LEAs must upload a consortium agreement that meets the requirements of 34 CFR 75.128 no later than the Part II close date. The consortium may use the sample agreement, available in the EASIE system as a downloadable document, as a guide.

(3) In Part II, the Indian Parent Committee Approval form, which is required of all applicants that are LEAs or consortia of LEAs, must be uploaded into the EASIE system no later than the close of Part II. This form is also available in the EASIE system.

3. Submission Dates and Times: Part I of the Formula Grant EASIE Applications Available: January 27, 2014.

Deadline for Transmittal of Part I Applications: February 28, 2014, 11:59:59 p.m., Washington DC time. Part II of the Formula Grant EASIE Applications Available: March 31, 2014.

Deadline for Transmittal of Part II Applications: May 30, 2014, 11:59:59 p.m., Washington DC time.

Applications for grants under this program must be submitted electronically using the Formula Grant EASIE. For information (including dates and times) about how to submit your application electronically, or in paper format by mail or hand delivery if you qualify for an exception to the electronic submission requirements, please refer to section IV. 7. Other Submission Requirements of this notice. All applications must be submitted by the Part I and Part II deadlines in order to receive funding; late applications will not be considered.

Individuals with disabilities who need an accommodation process should contact the person listed under FOR FURTHER INFORMATION CONTACT in section VI of this notice. If the Department provides an accommodation or auxiliary aid to an individual with a disability in connection with the application process, the individual's application remains subject to all other requirements and limitations in this notice.

Below is a table summarizing the FY 2014 EASIE deadlines for Part I and Part II.

Entity type | Requirement | Open date | Close/due date
All applicants | EASIE Part I | Jan 27, 2014 | Feb 28, 2014, 11:59:59 p.m., Washington DC time.
Tribe in Lieu of LEA(s) | Upload Evidence of Eligibility | Jan 27, 2014 | Feb 28, 2014, 11:59:59 p.m., Washington DC time.

Applicants must meet the deadlines for Part I to be eligible to complete Part II of the application process.

Entity type | Requirement | Open date | Close/due date
All applicants | EASIE Part II | Mar 31, 2014 | May 30, 2014, 11:59:59 p.m., Washington DC time.
LEA Consortium | Upload Evidence of Eligibility (e.g. LEA consortium agreement) | Mar 31, 2014 | May 30, 2014, 11:59:59 p.m., Washington DC time.
All LEA (and Consortia) applicants | Upload Parent Committee Approval Form | Mar 31, 2014 | May 30, 2014, 11:59:59 p.m., Washington DC time.

4. Intergovernmental Review: This program is not subject to Executive Order 12372 and the regulations in 34 CFR part 79.

5. Funding Restrictions: We reference additional regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database with information on registration provided below;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

7. Other Submission Requirements: Applications for grants under this program must be submitted electronically unless you qualify for an exception to this requirement in accordance with the instructions in this section.

a. Electronic Submission of Applications.

Applications for grants under the Indian Education Formula Grants to Local Educational Agencies program, CFDA number 84.060A must be submitted electronically using the Formula Grant EASIE.

We will reject your application if you submit it in paper format unless you qualify for one of the exceptions to the electronic submission requirement described later in this section under Exception to Electronic Submission Requirement, and follow the submission rules outlined therein.

Formula Grant EASIE Electronic Application System: Formula Grant EASIE is an easy-to-use, electronic application system. This system allows the Department to review applications and interact online with applicants during the application review and approval process.

The Formula Grant EASIE application is divided into two parts—Part I and Part II.

Part I, Student Count, provides the appropriate data-entry screens to submit your Indian student count totals. You will also indicate whether your project objectives and corresponding activities/services will be set yearly or up to a four-year period.

In EASIE Part II, you will describe the Coordination of Services for American Indian/Alaska Native students and identify specific project objectives towards the goal of providing culturally-responsive education for American Indian/Alaska Native students to meet their academic needs and help them meet State achievement standards. Applicants will also choose the data sources that will be used to measure progress towards meeting project objectives.

Finally, in Part II, you will submit a realistic program budget based on the estimated grant amount that the EASIE system calculates from the Indian student count you submitted in Part I. After the initial grant amounts are determined, additional funds may become available due to such circumstances as withdrawn applications or reduction in an applicant's student count. An applicant whose award amount increases or decreases more than $1,000 must submit a revised budget prior to receiving its grant award but will not need to re-certify its application. For an applicant that receives an increase or decrease in its award less than $1,000, there will be no need for further action. For any applicant that receives notification of an increased award amount following submission of its original budget, the applicant must allocate the increased amount only to previously approved budget categories, whether or not the amount exceeds $1,000.

Registration for Formula Grant EASIE: Entities are encouraged to register as soon as possible at the registration Web site www.easie.org, to ensure that any potential registration issues are resolved prior to the deadline for the submission of an application. The purpose of the initial registration is to activate or re-activate entities' access to EASIE and to ensure that the correct entity information (e.g., NCES or DUNS numbers) is pre-populated into the first part of Formula Grant EASIE. The registration Web site does not serve as the entity's grant application. Current, former, and new applicants interested in submitting an Indian Formula Grant EASIE application must complete the registration process. For information on how to register, contact the EDFacts Partner Support Center listed elsewhere in this notice under FOR FURTHER INFORMATION CONTACT.

Certification for Formula Grant EASIE: The applicant's authorized representative, who must be an employee of the applicant, must certify both Part I and Part II of EASIE. Only users with the role type “managing user” or “certifying official user” in the EASIE system can certify an application.

Exception to Electronic Submission Requirement: You qualify for an exception to the electronic submission requirement, and may submit your application in paper format, if you are unable to submit an application through the EASIE system because—

• You do not have access to the Internet; or

• You do not have the capacity to upload documents to the EASIE system;

and

• No later than two weeks before the application deadline date for Part I (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Bernard Garcia, U.S. Department of Education, Office of Indian Education, 400 Maryland Avenue SW., room 3E307, Washington, DC 20202-6335. FAX: (202) 205-0606.

Your paper application must be submitted in accordance with the mail or hand delivery instructions described in this notice.

b. Submission of Paper Applications by Mail.

If you qualify for an exception to the electronic submission requirement, you may mail (through the U.S. Postal Service or a commercial carrier) your application to the U.S Department of Education, Office of Indian Education. You must mail the original and two copies of your application, on or before the application deadline dates for both Part I and Part II, to the Office of Indian Education at the following address: U.S. Department of Education, Office of Indian Education, Attention: CFDA Number 84.060A, 400 Maryland Avenue SW., Room 3E307, Washington, DC 20202-6335.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

For all grant awards, if your application is postmarked after the application deadline date for Part I or Part II, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline dates for both Part I and Part II, to the Department at the following address: U.S. Department of Education, Office of Indian Education, Attention: CFDA Number 84.060A, 400 Maryland Avenue SW., Room 3E307, Washington, DC 20202-6335.

The Program Office accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—on your application, the CFDA number, including suffix letter, if any, of the competition under which you are submitting your application; and

(2) The Program Office will mail to you a notification of receipt of your grant application. If you do not receive this notification within 15 business days from the application deadline date, you should call the U.S. Department of Education Office of Indian Education at (202) 260-3774.

V. Grant Administration Information

1. Administrative and National Policy Requirements: We identify administrative and national policy requirements in the application package and reference these and other requirements in the Applicable Regulations section of this notice. We reference the regulations outlining the terms and conditions of a grant in the Applicable Regulations section of this notice.

2. Performance Measures: The Secretary has established the following key performance measures for assessing the effectiveness and efficiency of the Indian Education Formula Grants to Local Educational Agencies program: (1) The percentage of American Indian and Alaska Native students in grades four and eight who score at or above the basic level in reading on the National Assessment of Educational Progress (NAEP); (2) the percentage of American Indian and Alaska Native students in grades four and eight who score at or above the basic level in mathematics on the NAEP; (3) the percentage of American Indian and Alaska Native students in grades three through eight meeting State performance standards by scoring at the proficient or the advanced levels in reading and mathematics on State assessments; (4) the difference between the percentage of American Indian and Alaska Native students in grades three through eight at the proficient or advanced levels in reading and mathematics on State assessments and the percentage of all students scoring at those levels; (5) the percentage of American Indian and Alaska Native students who graduate from high school; and (6) the percentage of funds used by grantees prior to award close-out.

VI. Agency Contacts

For Further Information Contact: For questions about the Formula Grant Program to Local Educational Agencies, contact Bernard Garcia, U.S. Department of Education, 400 Maryland Avenue SW., Room 3E307, Washington, DC 20202-6335. Telephone: (202) 260-1454 or by email: Bernard.Garcia@ed.gov. For questions about the EASIE application and uploading documentation, contact the EDFacts Partner Support Center, telephone: 877-457-3336 (877-HLP-EDEN) or by email at: eden_OIE@ed.gov.

If you use a telecommunications device for the deaf (TDD) or a text telephone (TTY), call the EDFacts Partner Support Center, toll free, at 1-888-403-3336 (888-403-EDEN).

Individuals with disabilities can obtain this document and a copy of the application package in an accessible format (e.g., braille, large print, audiotape, or compact disc) by contacting the EDFacts Partner Support Center.

Electronic Access to This Document: The official version of this document is the document published in the Federal Register. Free Internet access to the official edition of the Federal Register and the Code of Federal Regulations is available via the Federal Digital System at: www.gpo.gov/fdsys. At this site you can view this document, as well as other documents of this Department published in the Federal Register in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: January 15, 2014.
Deborah Delisle,
Assistant Secretary for Elementary, and Secondary Education.

[FR Doc. 2014-01072 Filed 1-17-14; 8:45 am]

BILLING CODE 4000-01-P